DEPARTMENT OF HEALTH AND HUMAN SERVICES

National Institutes of Health

Submission for OMB Review; Comment Request: National Institute of Diabetes and Digestive and Kidney Diseases Information Clearinghouses Customer Satisfaction Survey

Summary: Under the provision of section 3507(a)(1)(D) of the Paperwork Reduction Act of 1995, the National Institute of Diabetes and Digestive and Kidney Diseases (NIDDK), the National Institutes of Health (NIH), has submitted to the Office of Management and Budget (OMB) a request to review and approve the information collection listed below. This proposed information collection was previously published in the Federal Register on April 30, 2003, pages 23150-23151 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: NIDDK Information Clearhinghouses Customer Satisfaction Survey.

Type of Information Request: Extension. The OMB control number 0925-0480 expires July 31, 2003.

Need and Use of Information Collection: NIDDK is conducting a survey to evaluate the efficiency and effectiveness of services provided its three information clearinghouses: National Diabetes Information Clearinghouse, National Digestive Diseases Information Clearinghouse, National Kidney and Urologic Diseases Information Clearinghouse. The survey responds to Executive Order 12862, “Setting Customer Service Standards,” which requires agencies and departments to identify and “survey their customers to determine the kind and quality of service they want and their level of satisfaction with existing service.”

Frequency of Response: On occasion.

Affected Public: Individuals or households; clinics or doctor's offices.

Type of Respondents: Physicians, nurses, patients, family.

The annual reporting burden is as follows:

Estimated Number of Respondents: 12,000.

Estimated Number of Responses per Respondent: 1.

Estimated Average Burden Hours Per Response: 0.1671.

Estimated Total Annual Burden Hours Requested: 2,000. The annualized cost to respondents is estimated at $39,000. There are no Capital Costs to report. There are no Operating or Maintenance Costs to report.

Type or respondents | Number of respondents | Frequency of response | Estimated average response time | Estimated annual burden hours.
Patients/Family | 3,600 | 1.00 | 0.167 | 600
Phys. Asst. | 7,200 | 1.00 | 0.167 | 1,200
Physicians | 1,200 | 1.00 | 0.167 | 200
Totals | 12,000 |  |  | 2,000

Request for Comments: Written comments and/or suggestions from the public and affected agencies are invited on one or more of the following points: (1) Whether the proposed collection of information is necessary for the proper performance of the function of the agency, including whether the information will have practical utility; (2) The accuracy of the agency's estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimate public burden and associated response time, should be directed to the: Office of Management and Budget, Office of Regulatory Affairs, New Executive Office Building, Room 10235, Washington, DC 20503, Attention: Desk Officer for NIH. To request more information on the proposed project or to obtain a copy of the data collection plans and instruments, contact: Kathy Kranzfelder, Project Officer, NIDDK Information Clearinghouses, NIH, Building 31, Room 9A04, MSC2560, Bethesda, MD 20852, or call non-toll-free number (301) 435-8113 or E-mail your request, including your address, to: kranzfeldk@hq.niddk.nih.gov.

Comments Due Date: Comments regarding this information are best assured of having their full effect if received within 30 days following the date of this publication.

Dated: May 30, 2003.
Barbara Merchant,
Executive Officer, NIDDK.

[FR Doc. 03-25295 Filed 10-3-03; 8:45 am]

BILLING CODE 4140-01-M